DEPARTMENT OF ENERGY

Office of Energy Efficiency and Renewable Energy

Clean Energy Manufacturing Innovation Institute on Smart Manufacturing Industry Day Workshop

AGENCY: Office of Energy Efficiency and Renewable Energy, Department of Energy.

ACTION: Notice of Open Meeting: Clean Energy Manufacturing Innovation Institute on Smart Manufacturing Industry Day Workshop.

SUMMARY: The Department of Energy (DOE) is announcing the following public workshop entitled, “Clean Energy Manufacturing Innovation Institute on Smart Manufacturing Industry Day Workshop.” The intent is to discuss the specifics of the previously announced potential investment in SMART Manufacturing.

DATES: The public workshop will be held on Wednesday, February 25, 2015, 8:30 a.m.-4:30 p.m. at the Georgia Tech Global Learning Center.

ADDRESSES: The meeting location is: 84 5th St. NW., Atlanta, GA 30308.

FOR FURTHER INFORMATION CONTACT: Questions may be directed to—David Hardy at 202-586-8092 or by email at david.hardy@ee.doe.gov.

SUPPLEMENTARY INFORMATION: Purpose of the Meeting: The purpose of this workshop is to bring together parties interested in responding to the upcoming Funding Opportunity Announcement (FOA) for the Clean Energy Manufacturing Innovation Institute on Smart Manufacturing. Smart Manufacturing represents an emerging opportunity faced broadly by the U.S. manufacturing sector to merge information and communications technologies with the manufacturing environment for the real-time management of energy, productivity, and costs in American factories all across the country. Smart Manufacturing was recently identified by private sector and university leaders in the White House's Advanced Manufacturing Partnership 2.0 as one of the highest priority manufacturing technology areas in need of federal investment. Participants will hear presentations from government officials about the framework for the Institute, specific technical topic areas of interest, and anticipated proposal requirements; be provided an opportunity to ask questions about the Institute and the FOA; and have opportunity for networking discussions with other potential collaborators. DOE previously posted an associated Notice of Intent (NOI) entitled “Clean Energy Manufacturing Innovation Institute on Smart Manufacturing: Advanced Sensors, Controls, Platforms and Modeling for Manufacturing” regarding the planned competition on December 11, 2014.

Public Participation: Members of the public are welcome to attend the workshop. Registration is free and available on a first-come, first-served basis. Persons interested in attending this public workshop must register online by 4 p.m., February 23. Early registration is recommended because facilities are limited and, therefore, DOE may limit the number of participants from each organization. If time and space permit, onsite registration on the day of the public workshop will be provided beginning at 8:30 a.m. To register for the public workshop, please visit https://www.eventbrite.com/e/industry-day-tickets-15743251489. Registrants will receive confirmation after they have been accepted. If you need special accommodations due to a disability, please contact Kendra Pierson, 678-478-2030, email: Kendra@tcgconsultinginc.com, no later than February 23, 2015.

Issued in Washington, DC, on February 12, 2015.
Mark J. Shuart,
R&D Facilities Program Manager, Advance Manufacturing Office.

[FR Doc. 2015-03456 Filed 2-23-15; 8:45 am]

BILLING CODE 6450-01-P